NUCLEAR REGULATORY COMMISSION

[Docket Nos. 50-250 and 50-251]

Florida Power and Light Company; Turkey Point Plant, Units 3 and 4; Environmental Assessment and Finding of No Significant Impact

The U.S. Nuclear Regulatory Commission (NRC) is considering issuance of an exemption from the requirements of Title 10, Code of Federal Regulations (10 CFR), section 50.44, and 10 CFR part 50, appendix A, General Design Criteria 41, 42, and 43, for Facility Operating License Nos. DPR-31, and DPR-41, issued to Florida Power and Light Company (the licensee), for operation of the Turkey Point Plant, Units 3 and 4, located in Miami-Dade County, Florida. Therefore, as required by 10 CFR 51.21, the NRC is issuing this environmental assessment and finding of no significant impact.

Environmental Assessment

Identification of the Proposed Action

The proposed exemption would exempt the Turkey Point Plant, Units 3 and 4, from the requirements of 10 CFR 50.44; 10 CFR part 50, appendix A, General Design Criteria 41, 42, and 43; and 10 CFR part 50, appendix E, section IV; related to combustible gas control systems. The purpose of the exemption request is to remove the requirements for the hydrogen control systems from the Turkey Point Plant design basis. The staff has reviewed the information provided and concluded that the requested exemption for the hydrogen recombiners and the post-accident containment vent system is justified because special circumstances necessary to meet the criteria of 10 CFR 50.12(a)(2)(ii) do exist to justify the exemption from certain parts of 10 CFR 50.44 and General Design Criteria 41, 42, and 43. The staff will act on the exemption request for the containment hydrogen monitors and their associated Technical Specification revision by separate correspondence. The proposed exemption is in accordance with the licensee's application dated October 23, 2000.

The Need for the Proposed Action

The requested exemption to remove the requirements pertaining to recombiners and the post-accident containment vent system would improve the safety focus at Turkey Point during an accident and would represent a more effective and efficient method of maintaining adequate protection of public health and safety by simplifying the Emergency Response Plan Procedures. In a postulated loss-of-coolant accident, the Turkey Point emergency operating procedures (EOPs) direct the control room operators to monitor and control the hydrogen concentration inside the containment after they have carried-out the steps to maintain and control the higher priority critical safety functions. These hydrogen control activities could distract operators from more important tasks in the early phases of accident mitigation and could have a negative impact on the higher priority critical operator actions. An exemption from the hydrogen recombiner and the post-accident containment vent system requirements will eliminate the need for these systems in the EOPs and, hence, simplify the EOPs. The staff still expects the licensee's severe accident management guidelines to address combustible gas control. Therefore, this simplification would provide a safety benefit, and this action reduces unnecessary regulatory burden on the licensee, which is one of the NRC's outcome goals of effective regulation.

Environmental Impacts of the Proposed Action

The NRC has completed its evaluation of the proposed action and concludes, as set forth below, that there are no significant environmental impacts associated with the removal of the recombiners and the post-accident containment vent system from the Turkey Point Plant design basis.

The proposed action will not significantly increase the probability or consequences of accidents, no changes are being made in the types or amounts of any effluents that may be released offsite, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts on the Alternatives to the Proposed Action

There are two alternatives to the proposed action. The first one is the denial of the proposed action (i.e., the “no-action” alternative). Denial of the application would result in no change in current environmental impacts. The environmental impacts of the proposed action and the denial of the action are similar. The second alternative is to grant the exemption as requested by the licensee in its submittal of October 23, 2000. The NRC does not endorse the second alternative at this time. Nevertheless, the environmental impacts of the second alternative and the environmental impacts of the proposed action are similar.

Alternative Use of Resources

This action does not involve the use of any different resources than those previously considered in the Final Environmental Statement for the Turkey Point Plant, Units 3 and 4, dated July 1972.

Agencies and Persons Consulted

On September 18, 2001, the staff consulted with the Florida State official, Mr. William A. Passetti of the Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 23, 2000. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). If you do not have access to ADAMS or if there are problems in accessing the documents located in ADAMS, contact the NRC PDR Reference staff at 1-800-397-4209, or 301-415-4737, or by e-mail at pdr@nrc.gov.

Dated at Rockville, Maryland, this 20th day of November, 2001.
For the Nuclear Regulatory Commission.
Kahtan N. Jabbour,
Senior Project Manager, Section 2, Project Directorate II, Division of Licensing Project Management, Office of Nuclear Reactor Regulation.

[FR Doc. 01-29448 Filed 11-26-01; 8:45 am]

BILLING CODE 7590-01-P